DEPARTMENT OF VETERANS AFFAIRS

Veterans' Advisory Committee on Rehabilitation (VACOR); Notice of Meeting

The Department of Veterans Affairs (VA) gives notice under Public Law 92-463 (Federal Advisory Committee Act) that a meeting of the Veterans' Advisory Committee on Rehabilitation will be held on March 29-31, 2006, in room 201 at the Paralyzed Veterans of America, 801 18th Street, NW., Washington, DC. The sessions will begin at 9 a.m. each day. The sessions will end at 4:30 p.m. on March 29 and 30, and at 12 noon on March 31. The meeting is open to the public.

The purpose of the Committee is to provide advice to the Secretary of Veterans Affairs on the rehabilitation needs of veterans with disabilities and the administration of VA's rehabilitation programs to meet those needs.

The agenda of the meeting will include updates on the Spinal Cord Injury Vocational Support Program, Disabled Transition Assistance Program, Seamless Transition, implementation of the Vocational Rehabilitation and Employment Task Force recommendations, employment initiatives, and other rehabilitation program initiatives. The Committee will also discuss recommendations for the 2006 report.

Time will not be allocated at this meeting for receiving oral presentations from the public. Any member of the public wishing to attend the meeting is requested to contact Ms. Janet LeClerc, Designated Federal Officer, at (202) 273-6952. The Committee will accept written comments. Comments can be addressed to Ms. LeClerc, Department of Veterans Affairs, Veterans Benefits Administration (28), 810 Vermont Avenue, NW., Washington, DC 20420, or electronically to vrejlecl@vba.va.gov. In their communications with the Committee, the writers must identify themselves and state the organizations, associations, or person(s) they represent.

Dated: March 3, 2006.
By direction of the Secretary:
E. Philip Riggin,
Committee Management Officer.

[FR Doc. 06-2198 Filed 3-8-06; 8:45 am]

BILLING CODE 8320-01-M